FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011745-003.

Title: Evergreen/Lloyd Triestino Alliance Agreement.

Parties: Evergreen Marine Corp.(Taiwan) Ltd. (“Evergreen”), Lloyd Triestino Di Navegazione S.P.A.

Synopsis: The proposed amendment: adds Hatsu Marine Limited as a party to the agreement; adds four additional vessels to be delivered between April of 2002 and June of 2003, replacing four Evergreen vessels; and adds certain authority concerning the sharing of personnel for supervisory, administrative, marketing, accounting, and operational functions.

Agreement No.: 201022-001.

Title: New Orleans/Coastal Terminal Agreement.

Parties: The Board of Commissioners of the Port of New Orleans, Coastal Cargo Company, Inc.

Synopsis: The proposed amendment adds a special rate for bulk cargo discharged to barges. The agreement continues to run through March 31, 2002.

Agreement No.: 201030-002.

Title: New Orleans/SSA Gulf/P&O Ports Terminal Agreement.

Parties: The Board of Commissioners of the Port of New Orleans, SSA Gulf Terminals, Inc., P&O Ports Gulfport, Inc.

Synopsis: The proposed amendment adds a special rate for bulk cargo discharged to barges. The agreement continues to run through July 23, 2002.

Agreement No.: 201044-002.

Title: San Francisco MTC Non-Exclusive Terminal Management Agreement.

Parties: San Francisco Port Commission, Marine Terminals Corporation.

Synopsis: The proposed amendment makes changes in management details and provides a sharing arrangement to offset losses to MTC resulting from MTC not meeting its revenues for the facility. The agreement continues to run through December 31, 2002.

Agreement No.: 201108-001.

Title: New Orleans/Empire Terminal Agreement.

Parties: The Board of Commissioners of the Port of New Orleans, Empire Stevedoring (LA), Inc.

Synopsis: The proposed amendment adds a special rate for bulk cargo discharged to barges.

Agreement No.: 201110-004.

Title: Oakland/Hanjin/Total Terminal Agreement.

Parties: Port of Oakland, Hanjin Shipping Company, Ltd., Total Terminals International, LLC.

Synopsis: The proposed amendment assigns Hanjin's rights under the agreement to Total Terminals International, LLC. The agreement continues to run through June 7, 2016.

Agreement No.: 201121-001.

Title: New Orleans/Pacorini Terminal Agreement.

Parties: The Board of Commissioners of the Port of New Orleans, Pacorini USA, Inc.

Synopsis: The proposed amendment adds a special rate for bulk cargo discharged to barges. The agreement continues to run through April 14, 2006.

By Order of the Federal Maritime Commission.
Dated: January 18, 2002.
Bryant L. VanBrakle,
Secretary.

[FR Doc. 02-1801 Filed 1-23-02; 8:45 am]

BILLING CODE 6730-01-P